DEPARTMENT OF HEALTH AND HUMAN SERVICES

Centers for Disease Control and Prevention

Fees for Sanitation Inspections of Cruise Ships

AGENCY: Centers for Disease Control and Prevention (CDC), Department of Health and Human Services (HHS).

ACTION: General notice.

SUMMARY: The Centers for Disease Control and Prevention (CDC), located within the Department of Health and Human Services (HHS) announces fees for vessel sanitation inspections for Fiscal Year (FY) 2014. These inspections are conducted by HHS/CDC's Vessel Sanitation Program (VSP). VSP helps the cruise line industry fulfill its responsibility for developing and implementing comprehensive sanitation programs to minimize the risk for acute gastroenteritis. Every vessel that has a foreign itinerary and carries 13 or more passengers is subject to twice-yearly inspections and, when necessary, re-inspection.

DATES: These fees are effective October 1, 2013, through September 30, 2014.

FOR FURTHER INFORMATION CONTACT: CAPT Jaret T. Ames, Chief, Vessel Sanitation Program, National Center for Environmental Health, Centers for Disease Control and Prevention, 4770 Buford Highway NE., MS F-58, Atlanta, Georgia 30341-3717, phone: 800-323-2132 or 954-356-6650, email: vsp@cdc.gov.

SUPPLEMENTARY INFORMATION:

Purpose and Background

HHS/CDC established the Vessel Sanitation Program (VSP) in the 1970s as a cooperative activity with the cruise ship industry. VSP helps the cruise ship industry prevent and control the introduction, transmission, and spread of gastrointestinal illnesses on cruise ships. VSP operates under the authority of the Public Health Service Act (Section 361 of the Public Health Service Act; 42 U.S.C. 264, “Control of Communicable Diseases”). Regulations found at 42 CFR 71.41 (Foreign Quarantine—Requirements Upon Arrival at U.S. Ports: Sanitary Inspection; General Provisions) state that carriers arriving at U.S. ports from foreign areas are subject to sanitary inspections to determine whether rodent, insect, or other vermin infestations exist, contaminated food or water, or other sanitary conditions requiring measures for the prevention of the introduction, transmission, or spread of communicable diseases are present.

The fee schedule for sanitation inspections of passenger cruise ships by VSP was first published in the Federal Register on November 24, 1987 (52 FR 45019). HHS/CDC began collecting fees on March 1, 1988. This notice announces fees that are effective for FY 2014, beginning on October 1, 2013, through September 30, 2014.

The following formula will be used to determine the fees:

The average cost per inspection is multiplied by size and cost factors to determine the fee for vessels in each size category. The size and cost factors were established in the fee schedule published in the Federal Register on July 17, 1987 (52 FR 27060). The fee schedule was most recently published in the Federal Register on August 21, 2012 (77 FR 50511). The size and cost factors for FY 2014 are presented in Appendix A.

Fee

The fee schedule (Appendix A) will be effective October 1, 2013, through September 30, 2014. The fee schedule (Appendix A) will be effective October 1, 2013, through September 30, 2014. The increase in fees is required due to administrative structure support costs within HHS/CDC. The last change in VSP inspection fees was October 1, 2006.

If travel expenses or other charges to VSP change, the fee schedule may need to be adjusted before September 30, 2014. If a fee adjustment is necessary, HHS/CDC will publish a notice in the Federal Register with the amended fee schedule (Appendix A) as soon as possible and at least 30 days before the effective date.

Applicability

The fees will apply to all passenger cruise vessels for which inspections are conducted as part of HHS/CDC's VSP.

Dated: August 15, 2013.
J. Ronald Campbell
Director, Division of Executive Secretariat, Centers for Disease Control and Prevention.

Appendix A

Size/Cost Factors Used to Determine Inspection Fees Impacts
Vessel size (GRT ¹) | Approximate cost per GRT ¹ (US$)
Extra Small (<3,001 GRT) | 0.25
Small (3,001-15,000 GRT) | 0.50
Medium (15,001-30,000 GRT) | 1.00
Large (30,001-60,000 GRT) | 1.50
Extra Large (60,001-120,000 GRT) | 2.00
Mega (>120,001 GRT) | 3.00

Fee Schedule for Each Vessel Size
Vessel size (GRT ¹) | Inspection fee (US$)
Extra Small (<3,000 GRT) | 1,495
Small (3,001-15,000 GRT) | 2,990
Medium (15,001-30,000 GRT) | 5,980
Large (30,001-60,000 GRT) | 8,970
Extra Large (60,001-120,000 GRT) | 11,960
Mega (>120,001 GRT) | 17,940
¹ Gross register tonnage in cubic feet, as shown in Lloyd's Register of Shipping.

Inspections and reinspections involve the same procedures, require the same amount of time, and are therefore charged at the same rates.

[FR Doc. 2013-20349 Filed 8-20-13; 8:45 am]

BILLING CODE 4163-18-P